DEPARTMENT OF COMMERCE

International Trade Administration

[C-427-815]

Countervailing Duty Order on Stainless Steel Sheet and Strip in Coils from France: Rescission of Five-Year (“Sunset”) Review

AGENCY: Import Administration, International Trade Administration, Department of Commerce.

ACTION: Stainless Steel Sheet and Strip in Coils from France: Rescission of Five-Year (“Sunset”) Review.

SUMMARY: On June 1, 2004, the Department of Commerce (“the Department”) pursuant to section 751(d)(2) of the Tariff Act of 1930, as amended (“the Act”), published a Notice of Initiation of Five-Year (“Sunset”) Reviews (Sunset Initiation Notice) of the antidumping duty orders on stainless steel sheet and strip from France, Germany, Italy, Japan, Korea, Mexico, Taiwan, and the United Kingdom, and the countervailing duty orders on stainless steel sheet and strip from France, Italy, and Korea.¹ Subsequent to the issuance of the Sunset Initiation Notice, we discovered an error. As a result, we are rescinding initiation of the sunset review with respect to the countervailing duty order on stainless sheet and strip in coils from France. The International Trade Commission is publishing concurrently with this notice its rescission of its notice of Institution of Five-Year Review.

¹ Initiation of Five-Year (“Sunset”) Reviews, 69 FR 30874 (June 1, 2004).

Effective Date: June 25, 2004.

FOR FURTHER INFORMATION CONTACT: Martha V. Douthit, Office of Policy for Import Administration, International Trade Administration, U.S. Department of Commerce, 14th St. & Constitution Ave., NW., Washington, DC 20230: telephone (202) 482-5050.

SUPPLEMENTARY INFORMATION:

Background

On June 1, 2004, the Department published in the Federal Register, the Sunset Initiation Notice for the antidumping duty orders on stainless steel sheet and strip in coils from France, Germany, Italy, Japan, South Korea, Mexico, Taiwan, and the United Kingdom, and the countervailing duty orders on stainless steel sheet and strip in coils from France, Italy, and South Korea. Subsequent to the publication of the Sunset Initiation Notice, we discovered an error.

Rescission of Review

In our Initiation Notice, we indicated that we were initiating five-year sunset reviews in accordance with 19 CFR 351.218(c). In the Initiation of Reviews section of our Initiation Notice, we initiated a sunset review of the countervailing duty order on stainless steel and strip in coils from France. However, this order was revoked effective November 7, 2003, in implementing certain determinations under Section 129 of the Uruguay Round Agreements Act.² Therefore, we are rescinding the sunset review of the countervailing duty order of stainless steel sheet and strip in coils from France. The sunset review of the antidumping duty order of stainless steel sheet and strip in coils from France will continue.

² Notice of Implementation Under Section 129 of the Uruguay Round Agreements Act; Countervailing Measures Concerning Certain Steel Products From the European Communities, 68 FR 64858 (November 17, 2003).

This amendment is issued and published in accordance with section 777(i) of the Act.

Dated: June 14, 2004.
James J. Jochum,
Assistant Secretary for Import Administration.

[FR Doc. 04-14490 Filed 6-24-04; 8:45 am]

BILLING CODE 3510-DS-P